DEPARTMENT OF COMMERCE

International Trade Administration

[A-523-810]

Certain Polyethylene Terephthalate Resin From the Sultanate of Oman: Affirmative Preliminary Determination of Sales at Less Than Fair Value and Postponement of Final Determination

AGENCY: Enforcement and Compliance, International Trade Administration, Department of Commerce.

DATES: Effective Date: October 15, 2015.

SUMMARY: The Department of Commerce (“Department”) preliminarily determines that certain polyethylene terephthalate resin (“PET resin”) from the Sultanate of Oman (“Oman”) is being, or is likely to be, sold in the United States at less than fair value (“LTFV”), as provided in section 733(b) of the Tariff Act of 1930, as amended (the “Act”). The period of investigation is January 1, 2014, through December 31, 2014. The estimated weighted-average dumping margins are shown in the “Preliminary Determination” section of this notice. Interested parties are invited to comment on this preliminary determination.

FOR FURTHER INFORMATION CONTACT: Jonathan Hill, AD/CVD Operations, Office IV, Enforcement and Compliance, International Trade Administration, U.S. Department of Commerce, 14th Street and Constitution Avenue NW., Washington, DC 20230; telephone: (202) 482-3518.

SUPPLEMENTARY INFORMATION:

Background

The Department published the notice of initiation of this investigation on April 6, 2015.¹ Pursuant to section 733(c)(1)(A) of the Act, the Department postponed this preliminary LTFV determination by 50 days until October 6, 2015.²

¹ See Certain Polyethylene Terephthalate Resin From Canada, the People's Republic of China, India, and the Sultanate of Oman: Initiation of Less-Than-Fair-Value Investigations, 80 FR 18376 (April 6, 2015) (“Initiation Notice”).

² See Certain Polyethylene Terephthalate Resin from Canada, the People's Republic of China, India, and the Sultanate of Oman: Postponement of Preliminary Determinations of Antidumping Duty Investigations, 80 FR 45640 (July 31, 2015).

Scope of the Investigation

The merchandise covered by this investigation is polyethylene terephthalate (“PET”) resin. The merchandise subject to this investigation is properly classified under subheading 3907.60.00.30 of the Harmonized Tariff Schedule of the United States (HTSUS). Although the HTSUS subheading is provided for convenience and customs purposes, the written description of the merchandise under investigation is dispositive.

For a full description of the scope of this investigation, see the Preliminary Decision Memorandum, hereby adopted by this notice.³ The Preliminary Decision Memorandum is a public document and is made available to the public via Enforcement and Compliance's Antidumping and Countervailing Duty Centralized Electronic Service System (ACCESS). ACCESS is available to registered users at https://access.trade.gov, and is available to all parties in the Department's Central Records Unit, Room B8024 of the main Department of Commerce building. In addition, a complete version of the Preliminary Decision Memorandum can be found at http://enforcement.trade.gov/frn/. The signed and the electronic versions of the Preliminary Decision Memorandum are identical in content.

³ See Memorandum from Christian Marsh, Deputy Assistant Secretary, Antidumping and Countervailing Duty Operations to Paul Piquado, Assistant Secretary, Enforcement and Compliance “Certain Polyethylene Terephthalate Resin From the Sultanate of Oman: Decision Memorandum for the Preliminary Determination in the Antidumping Duty Investigation,” (“Preliminary Decision Memorandum”) dated concurrently with and hereby adopted by this notice. A list of the topics discussed in the Preliminary Decision Memorandum appears in Appendix I, below.

Scope Comments

The Initiation Notice provided interested parties an opportunity to raise issues regarding product coverage (scope). However, no party to the proceeding provided scope comments.

Methodology

The Department is conducting this investigation in accordance with section 731 of the Act. Export prices (“EP”) and constructed export prices (“CEP”) have been calculated in accordance with section 772 of the Act. Normal value (“NV”) has been calculated in accordance with section 773 of the Act. For a full description of the methodology underlying our conclusions, see the Preliminary Decision Memorandum, hereby adopted by this notice.

All Others Rate

Section 735(c)(5)(A) of the Act provides that the estimated “all others” rate shall be an amount equal to the weighted-average of the estimated weighted-average dumping margins established for exporters and producers individually investigated, excluding any zero or de minimis dumping margins, and any dumping margins determined entirely under section 776 of the Act. We based our calculation of the “all others” rate on the dumping margin calculated for OCTAL SAOC—FZC (“OCTAL”), the only mandatory respondent in this investigation. This margin was not zero or de mininis and it was not determined entirely under section 776 of the Act.

Preliminary Determination

The Department preliminarily determines that the following weighted-average dumping margins exist during the period January 1, 2014, through December 31, 2014:

Producer or exporter | Weighted- average dumping margin (percent)
OCTAL SAOC—FZC | 6.62
All Others | 6.62

Suspension of Liquidation

In accordance with section 733(d)(2) of the Act, the Department will direct U.S. Customs and Border Protection (“CBP”) to suspend liquidation of all entries of PET resin from Oman, as described in the “Scope of the Investigation” section, entered, or withdrawn from warehouse, for consumption on or after the date of publication of this notice in the Federal Register. Pursuant to section 733(d)(1)(B) of the Act and 19 CFR 351.205(d), we will instruct CBP to require a cash deposit ⁴ equal to the weighted-average amount by which the NV exceeds EP, or CEP as indicated in the chart above. These suspension of liquidation instructions will remain in effect until further notice.

⁴ See Modification of Regulations Regarding the Practice of Accepting Bonds During the Provisional Measures Period in Antidumping and Countervailing Duty Investigations, 76 FR 61042 (October 3, 2011).

Disclosure and Public Comment

We intend to disclose the calculations performed to parties in this proceeding within five days after public announcement of the preliminary determination in accordance with 19 CFR 351.224(b). Case briefs or other written comments may be submitted to the Assistant Secretary for Enforcement and Compliance no later than seven days after the date on which the final verification report is issued in this proceeding and rebuttal briefs, limited to issues raised in case briefs, may be submitted no later than five days after the deadline date for submitting case briefs.⁵ Pursuant to 19 CFR 351.309(c)(2) and (d)(2), parties who submit case briefs or rebuttal briefs in this proceeding are encouraged to submit with each argument: (1) A statement of the issue; (2) a brief summary of the argument; and (3) a table of authorities.

⁵ See 19 CFR 351.309(c); see also 19 CFR 351.303 (for general filing requirements).

Interested parties who wish to request a hearing must submit a written request to the Assistant Secretary for Enforcement and Compliance, U.S. Department of Commerce, filed electronically using ACCESS. All documents must be filed electronically using ACCESS. An electronically filed hearing request must be received successfully in its entirety by ACCESS, by 5:00 p.m. Eastern Time, within 30 days after the date of publication of this notice.⁶ Hearing requests should contain the party's name, address, and telephone number, the number of participants, and a list of the issues to be discussed. If a request for a hearing is made, the Department intends to hold the hearing at the U.S. Department of Commerce, 14th Street and Constitution Avenue NW., Washington, DC 20230, at a time and date to be determined. Parties should confirm by telephone the date, time, and location of the hearing two days before the scheduled date.

⁶ See 19 CFR 351.310(c).

Verification

As provided in section 782(i)(1) of the Act, the Department intends to verify the information submitted by OCTAL and its affiliates prior to making a final determination in this investigation.

Postponement of Final Determination and Extension of Provisional Measures

Section 735(a)(2) of the Act provides that a final determination may be postponed until not later than 135 days after the date of the publication of the preliminary determination if, in the event of an affirmative preliminary determination, a request for such postponement is made by exporters who account for a significant proportion of exports of the subject merchandise, or in the event of a negative preliminary determination, a request for such postponement is made by the petitioner. 19 CFR 351.210(e)(2) requires that requests by respondents for postponement of a final antidumping determination be accompanied by a request for extension of provisional measures from a four-month period to a period not more than six months in duration.

OCTAL requested that, contingent upon an affirmative preliminary determination of sales at LTFV for OCTAL, the Department postpone its final determination pursuant to 19 CFR 351.210(e)(2).⁷ In addition, OCTAL requested to extend the application of the provisional measures prescribed under section 733(d) of the Act and 19 CFR 351.210(e)(2), from a four-month period to a period not to exceed six months.

⁷ See Letter from OCTAL to the Secretary of Commerce “OCTAL's Request for Extension of Final Determination and Provisional Measures Certain Polyethylene Terephthalate (PET) Resin from the Sultanate of Oman,” dated September 24, 2015.

In accordance with section 735(a)(2)(A) of the Act and 19 CFR 351.210(b)(2)(ii) and (e)(2), because: (1) Our preliminary determination is affirmative; (2) the requesting exporter accounts for a significant proportion of exports of the subject merchandise; and (3) no compelling reasons for denial exist, we are postponing the final determination and extending the provisional measures from a four-month period to a period not greater than six months. Accordingly, we will make our final determination no later than 135 days after the date of publication of this preliminary determination, pursuant to section 735(a)(2) of the Act.⁸

⁸ See 19 CFR 351.210(e).

U.S. International Trade Commission (“ITC”) Notification

In accordance with section 733(f) of the Act, we will notify the ITC of our preliminary affirmative determination of sales at LTFV. Because the preliminary determination in this proceeding is affirmative, section 735(b)(2) of the Act requires that the ITC make its final determination as to whether the domestic industry in the United States is materially injured, or threatened with material injury, by reason of imports of PET resin from Oman before the later of 120 days after the date of this preliminary determination or 45 days after our final determination. Because we are postponing the deadline for our final determination to 135 days from the date of publication of this preliminary determination, as discussed above, the ITC will make its final determination no later than 45 days after our final determination.

This determination is issued and published in accordance with sections 733(f) and 777(i)(1) of the Act and 19 CFR 351.205(c).

Dated: October 6, 2015.
Paul Piquado,
Assistant Secretary for Enforcement and Compliance.

Appendix I: List of Topics Discussed in the Preliminary Decision Memorandum

I. Summary

II. Background

III. Period of Investigation

IV. Postponement of Preliminary Determination

V. Postponement of Final Determination and Extension of Provisional Measures

VI. Scope of the Investigation

VII. Scope Comments

VIII. Discussion of Methodology

A. Fair Value Comparisons

1. Determination of the Comparison Method

2. Results of the Differential Pricing Analysis

B. Product Comparisons

C. Date of Sale

D. U.S. Price

E. Normal Value

1. Comparison-Market Viability

2. Level of Trade

3. Calculation of Normal Value Based on Comparison Market Prices

4. Calculation of Normal Value Based on Constructed Value

F. Cost of Production

1. Calculation of COP

2. Test of Comparison Market Sales Prices

3. Results of COP Test

IX. Currency Conversion

X. Verification

XI. Recommendation

[FR Doc. 2015-26261 Filed 10-14-15; 8:45 am]

BILLING CODE 3510-DS-P